SURFACE TRANSPORTATION BOARD

[Docket No. AB 1011 (Sub-No. 3X)]

Northern Lines Railway Company, LLC—Discontinuance of Service Exemption—in Stearns and Benton Counties, Minn.

On July 1, 2016, Northern Lines Railway, LLC (NLR) filed with the Surface Transportation Board (Board) a petition under 49 U.S.C. 10502 for exemption from the provisions of 49 U.S.C. 10903 to discontinue rail service over approximately three miles of rail line (the Subject Segments) in East St. Cloud, Stearns and Benton Counties, Minn.

NLR is not the owner of the Subject Segments. The Subject Segments are owned by BNSF Railway Company (BNSF).¹ The Subject Segments connect to BNSF main lines between milepost 73 and milepost 75 and include: (a) All tracks accessed by Main 1 from Tracks 9967 and 9966; (b) Track 0132 along with Track 0146 and Track 0146's connecting industries within the wye complex at main line milepost 74; and (c) Track 0162, also known as Transfer 2.

¹ NLR was granted authority to lease and operate the Subject Segments in Northern Lines Ry., LLC—Lease and Operation Exemption—Burlington Northern and Santa Fe Ry., FD 34627 (STB served Jan. 6, 2005) (as modified by the decision in the same docket served June 3, 2005).

NLR states that BNSF has advised NLR that some of the Subject Segments, based on information on BNSF's possession, do contain federally granted rights-of-way. Any documentation in NLR's possession will be made available promptly to those requesting it.

The interest of railroad employees will be granted by the conditions set forth in Oregon Short Line Railroad—Abandonment Portion Goshen Branch Between Firth & Ammon, in Bingham & Bonneville Counties, Idaho, 360 I.C.C. 91 (1979).

By issuance of this notice, the Board is instituting an exemption proceeding pursuant to 49 U.S.C. 10502(b). A final decision will be issued by October 19, 2016.

Because this is a discontinuance proceeding and not an abandonment proceeding, trail use/rail banking and public use conditions are not appropriate. Because there will be environmental review during abandonment, this discontinuance does not require an environmental review.

Any offer of financial assistance (OFA) under 49 CFR 1152.27(b)(2) to subsidize continued rail service will be due no later than October 31, 2016, or 10 days after service of a decision granting the petition for exemption, whichever occurs sooner. Each offer must be accompanied by a $1,600 filing fee. See 49 CFR 1002.2(f)(25).

All filings in response to this notice must refer to Docket No. AB 1011 (Sub-No. 3X) and must be sent to: (1) Surface Transportation Board, 395 E Street SW., Washington, DC 20423-0001; and (2) Rose-Michele Nardi, Transport Counsel, PC, 1701 Pennsylvania Ave. NW., Suite 300, Washington, DC 20006. Replies to this petition are due on or before August 10, 2016.

Persons seeking further information concerning discontinuance procedures may contact the Board's Office of Public Assistance, Governmental Affairs, and Compliance at (202) 245-0238 or refer to the full abandonment and discontinuance regulations at 49 CFR pt. 1152. Questions concerning environmental issues may be directed to the Board's Office of Environmental Analysis (OEA) at (202) 245-0305. [Assistance for the hearing impaired is available through the Federal Information Relay Service (FIRS) at 1-800-877-8339.]

Board decisions and notices are available on our Web site at WWW.STB.DOT.GOV.

Decided: July 18, 2016.
By the Board, Rachel D. Campbell, Director, Office of Proceedings.
Brendetta S. Jones,
Clearance Clerk.

[FR Doc. 2016-17368 Filed 7-20-16; 8:45 am]

BILLING CODE 4915-01-P